NATIONAL SCIENCE FOUNDATION

Advisory Committee for Engineering; Notice of Meeting

In accordance with the Federal Advisory Committee Act (Pub L. 92-463, as amended), the National Science Foundation announces the following meeting:

Name: Advisory Committee for Engineering (1170).

Date/Time: October 24th, 2007; 1-6 p.m. October 25th, 2007; 9 a.m.-12 p.m.

Place: National Science Foundation, Room 1235, 4201 Wilson Blvd., Arlington, VA.

Type of Meeting: Open.

Contact Person: Shirah Pope, Executive Assistant, Office of the Assistant Director for Engineering 703-292-8300.

Purpose of Meeting: To provide advice, recommendations and counsel on major goals and policies pertaining to engineering programs and activities.

Agenda: The principal focus of the meeting will be a discussion of emerging issues and opportunities for the Directorate for Engineering and its divisions. Other topics include:

• Impact of Proposal Award and Management Mechanisms.

• Emerging Frontiers Research and Innovation Update.

• Subcommittee report on University-Industry Partnerships.

• NSF Broadening Participation Working Group.

• Engineering Education and Centers Division update and COV Report.

Dated: October 4, 2007.
Susanne Bolton,
Committee Management Officer.

[FR Doc. E7-19917 Filed 10-9-07; 8:45 am]

BILLING CODE 7555-01-P